ENVIRONMENTAL PROTECTION AGENCY

40 CFR Part 52

[EPA-R09-OAR-2016-0524; FRL-9968-35—Region 9]

Approval of California Air Plan Revisions, Antelope Valley Air Quality Management District

AGENCY: Environmental Protection Agency (EPA).

ACTION: Final rule.

SUMMARY: The Environmental Protection Agency (EPA) is taking final action to approve and conditionally approve revisions to the Antelope Valley Air Quality Management District (AVAQMD or “District”) portion of the California State Implementation Plan (SIP). These revisions concern the District's demonstration regarding Reasonably Available Control Technology (RACT) requirements for the 1997 8-hour ozone and the 2008 8-hour ozone National Ambient Air Quality Standards (NAAQS or “standards”) in the Antelope Valley ozone nonattainment area. The EPA is also taking final action to approve AVAQMD negative declarations into the SIP for the 1997 and the 2008 ozone standards.

We are approving local SIP revisions under the Clean Air Act (CAA or the Act).

DATES: This rule will be effective on November 9, 2017.

ADDRESSES: The EPA has established a docket for this action under Docket ID No. EPA-R09-OAR-2016-0524. All documents in the docket are listed on the https://www.regulations.gov Web site. Although listed in the index, some information is not publicly available, e.g., Confidential Business Information or other information whose disclosure is restricted by statute. Certain other material, such as copyrighted material, is not placed on the Internet and will be publicly available only in hard copy form. Publicly available docket materials are available through https://www.regulations.gov, or please contact the person identified in the FOR FURTHER INFORMATION CONTACT section for additional availability information.

FOR FURTHER INFORMATION CONTACT: Nancy Levin, EPA Region IX, (415) 972-3848, levin.nancy@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On July 28, 2017 (82 FR 35149), the EPA proposed action on the following documents submitted into the California SIP.

Local agency | Document | Adopted | Submitted
AVAQMD | AVAQMD 8-Hour Reasonably Available Control Technology—State Implementation Plan Analysis (RACT SIP Analysis)—1997 8-hour Ozone NAAQS “2006 RACT SIP” | 09/19/06 | 01/31/07
AVAQMD | AVAQMD 8-Hour Reasonably Available Control Technology—State Implementation Plan Analysis (2015 RACT SIP Analysis)—2008 8-hour Ozone NAAQS “2015 RACT SIP” | 07/21/15 | 10/23/15
AVAQMD | AVAQMD Federal Negative Declarations for Twenty Control Techniques Guidelines Source Categories | 07/21/15 | 10/23/15
AVAQMD | AVAQMD Federal Negative Declarations for Seven Control Techniques Guidelines Source Categories | 12/20/16 | 06/07/17

Specifically, the EPA proposed to conditionally approve AVAQMD's 2006 and 2015 RACT SIPs with respect to Rule 462, Organic Liquid Loading; Rule 1110.2, Emissions from Stationary, Non-road & Portable Internal Combustion Engines; Rule 1151, Motor Vehicle and Mobile Equipment Coating Operations; and Rule 1171, Solvent Cleaning Operations. Simultaneously, EPA proposed to fully approve the remainder of the 2006 and 2015 RACT SIPs, and to fully approve AVAQMD's negative declarations submitted on October 23, 2015 and June 7, 2017. We simultaneously withdrew our December 15, 2016 proposal to partially approve and partially disapprove AVAQMD's 2006 and 2015 RACT SIPs because the AVAQMD committed to address the identified deficiencies within one year of the approval of the plan revision.

We proposed to approve these submittals because we determined that they complied with the relevant CAA requirements. Our proposed action contains more information on the submittals and our evaluation.

II. Public Comments and EPA Responses

The EPA's proposed action provided a 30-day public comment period. During this period, we received no comments.

III. EPA Action

No comments were submitted. Therefore, as authorized in subsections 110(k)(3) and 110(k)(4) of the Act, the EPA is conditionally approving AVAQMD's 2006 and 2015 RACT SIPs with respect to Rule 462, Organic Liquid Loading; Rule 1110.2, Emissions from Stationary, Non-road & Portable Internal Combustion Engines; Rule 1151, Motor Vehicle and Mobile Equipment Coating Operations; and Rule 1171, Solvent Cleaning Operations, and fully approving the remainder of the 2006 and 2015 RACT SIPs and AVAQMD's negative declarations submitted on October 23, 2015 and June 7, 2017 into the California SIP.

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 11, 2017. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: September 15, 2017.
Deborah Jordan,
Acting Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(358)(ii), (c)(493) and (494) to read as follows:

§ 52.220 Identification of plan—in part.

* * * * *

(c) * * *

(358) * * *

(ii) Additional materials. (A) Antelope Valley Air Quality Management District.

(1) 8-Hour Reasonably Available Control Technology—State Implementation Plan Analysis (RACT SIP Analysis), August 2006, adopted on September 19, 2006.

(2) [Reserved]

* * * * *

(493) The following plan was submitted by on October 23, 2015 by the Governor's designee.

(i) [Reserved]

(ii) Additional materials. (A) Antelope Valley Air Quality Management District.

(1) 8-Hour Reasonably Available Control Technology—State Implementation Plan Analysis (RACT SIP Analysis), July 2015, adopted on July 21, 2015.

(2) Antelope Valley Air Quality Management District Federal Negative Declaration (8 hr Ozone Standard) for Twenty CTG Source Categories, signed June 15, 2015 and adopted on July 21, 2015.

(494) The following plan revision was submitted on June 7, 2017 by the Governor's designee.

(i) [Reserved]

(ii) Additional materials. (A) Antelope Valley Air Quality Management District.

(1) Antelope Valley Air Quality Management District Federal Negative Declaration (8-hour Ozone Standards) for Seven Control Techniques Guideline Source Categories, signed October 19, 2016 and adopted on December 20, 2016.

(2) [Reserved]

3. Section 52.222 is amended by adding paragraphs (a)(6)(x) and (xi) to read as follows:

§ 52.222 Negative declarations.

(a) * * *

(6) * * *

(x) The following negative declarations for the 2008 ozone NAAQS were adopted by the District on July 21, 2015 and submitted to EPA on October 23, 2015.

CTG source category | CTG reference document
Bulk Gasoline Plants | Control of Volatile Organic Emissions from Bulk Gasoline Plants (EPA-450/2-77-035, 12/1977).
Coils | Control of Volatile Organic Emissions from Existing Stationary Sources—Volume II: Surface Coating of Cans, Coils, Paper, Fabrics, Automobiles, and Light-Duty Trucks (EPA-450/2-77-008, 05/1977).
Fiberglass Boat Manufacturing Materials | Control Techniques Guidelines for Fiberglass Boat Manufacturing Materials (EPA-453/R-08-004, 09/2008).
Fixed-Roof Tanks | Control Volatile Organic Emissions from Storage of Petroleum Liquids in Fixed-Roof Tanks (EPA-450/2-77-036, 12/1977).
Flat Wood Paneling | Control Techniques Guidelines for Flat Wood Paneling Coatings (EPA-453/R-06-004, 09/2006).
Floating-Roof Tanks | Control of Volatile Organic Emissions from Petroleum Liquid Storage in External Floating Roof Tanks (EPA-450/2-78-047, 12/1978).
Insulation of Magnet Wire | Control of Volatile Organic Emissions from Existing Stationary Sources—Volume IV: Surface Coating of Insulation of Magnet Wire (EPA-450/2-77-033, 12/1977).
Large Appliance Coatings | Control of Volatile Organic Emissions from Existing Stationary Sources—Volume V: Surface Coating of Large Appliances (EPA-450/2-77-034, 12/1977). Control Techniques Guidelines for Large Appliance Coatings (EPA-453/R-07-004, 09/2007).
Large Petroleum Dry Cleaners | Control of Volatile Organic Compound Emissions from Large Petroleum Dry Cleaners (EPA-450/3-82-009, 09/1982).
Manufacture of High-Density Polyethylene, Polypropylene, and Polystyrene Resins | Control of Volatile Organic Compound Emissions from Manufacture of High-Density Polyethylene, Polypropylene, and Polystyrene Resins (EPA-450/3-83-008, 11/1983).
Metal Furniture Coating | Control Techniques Guidelines for Metal Furniture Coatings (EPA-453/R-07-005, 09/2007).
Natural Gas/Gasoline Processing Plants | Control of Volatile Organic Compound Leaks from Natural Gas/Gasoline Processing Plants (EPA-450/3-83-007, 12/1983).
Petroleum Refinery Equipment | Control of Volatile Organic Compound Leaks from Petroleum Refinery Equipment (EPA-450/2-78-036, 06/1978).
Pneumatic Rubber Tires | Control of Volatile Organic Emissions from Manufacture of Pneumatic Rubber Tires (EPA-450/2-78-030, 12/1978).
Refinery Vacuum Producing Systems, Wastewater Separators, and Process Unit Turnarounds | Control of Refinery Vacuum Producing Systems, Wastewater Separators, and Process Unit Turnarounds (EPA-450/2-77-025, 10/1977).
Shipbuilding and Ship Repair Surface Coating Operations | Control Techniques Guidelines for Shipbuilding and Ship Repair Operations (Surface Coating) (61 FR 44050, 08/27/96) and EPA-453/R-94-032, 04/1994.
Synthesized Pharmaceutical Products | Control of Volatile Organic Emissions from Manufacture of Synthesized Pharmaceutical Products (EPA-450/2-78-029, 12/1978).
Synthetic Organic Chemical Manufacturing Industry | Control Volatile Organic Compound Emissions from Air Oxidation Processes in Synthetic Organic Chemical Manufacturing Industry (EPA-450/3-84-015, 12/1984). Control of Volatile Organic Compound Emissions from Reactor Processes and Distillation Operations in Synthetic Organic Chemical Manufacturing Industry (EPA-450/4-91-031, 08/1993).
Synthetic Organic Chemical Polymer and Resin Manufacturing Equipment | Control of Volatile Organic Compound Leaks from Synthetic Organic Chemical Polymer and Resin Manufacturing Equipment (EPA-450/3-83-006, 03/1984).
Wood Furniture Manufacturing Coating Operations | Control of Volatile Organic Compound Emissions from Wood Furniture Manufacturing Operations (EPA-453/R-96-007, 04/1996).

(xi) The following negative declarations were adopted by the District on December 20, 2016 and submitted to EPA on June 7, 2017.

Negative Declarations for the 1997 Ozone NAAQS
CTG source category | CTG reference document
Can Coating | Control of Volatile Organic Emissions from Existing Stationary Sources—Volume II: Surface Coating of Cans, Coils, Paper, Fabrics, Automobiles, and Light-Duty Trucks (EPA-450/2-77-008, 05/1977).
Flat Wood Paneling Coating | Control of Volatile Organic Emissions from Existing Stationary Sources—Volume VII: Factory Surface Coating of Flat Wood Paneling (EPA-450/2-78-032, 06/1978).
Large Petroleum Dry Cleaning | Control of Volatile Organic Compound Emissions from Large Petroleum Dry Cleaners (EPA-450/3-82-009, 09/1982).

Negative Declarations for the 2008 Ozone NAAQS
CTG source category | CTG reference document
Can Coating | Control of Volatile Organic Emissions from Existing Stationary Sources—Volume II: Surface Coating of Cans, Coils, Paper, Fabrics, Automobiles, and Light-Duty Trucks (EPA-450/2-77-008, 05/1977).
Drum Coating | Control Techniques Guidelines for Miscellaneous Metal and Plastic Parts Coatings (EPA-453/R-08-003, 09/2008).
Flat Wood Paneling Coating | Control of Volatile Organic Emissions from Existing Stationary Sources—Volume VII: Factory Surface Coating of Flat Wood Paneling (EPA-450/2-78-032, 06/1978).
Metal Furniture Coating | Control of Volatile Organic Emissions from Existing Stationary Sources—Volume III: Surface Coating of Metal Furniture (EPA-450/2-77-032, 12/1977).
Pleasure Craft Coating | Control Techniques Guidelines for Miscellaneous Metal and Plastic Parts Coatings (EPA-453/R-08-003, 09/2008).
Tank Truck Gasoline Loading Terminals | Control of Hydrocarbons from Tank Truck Gasoline Loading Terminals (EPA-450/2-77-026, 10/1977).

* * * * *

4. Revise § 52.248 to read as follows:

§ 52.248 Identification of plan—conditional approval.

(a) The EPA is conditionally approving a California State Implementation Plan (SIP) revision submitted on November 13, 2015 updating the motor vehicle emissions budgets for nitrogen oxides (NOX) and coarse particulate matter (PM10) for the 1987 24-hour PM10 standard for the San Joaquin Valley PM10 maintenance area. The conditional approval is based on a commitment from the State to submit a SIP revision that demonstrates full implementation of the contingency provisions of the 2007 PM10 Maintenance Plan and Request for Redesignation (September 20, 2007). If the State fails to meet its commitment by June 1, 2017, the approval is treated as a disapproval.

(b) The EPA is conditionally approving portions of the California SIP revisions submitted on January 31, 2007 and October 23, 2015, demonstrating control measures in the Antelope Valley portion of the Los Angeles-San Bernardino Counties (West Mojave Desert) nonattainment area implement RACT for the 1997 and 2008 ozone standards. The conditional approval is based on a commitment from the state to submit new or revised rules that will correct deficiencies in the following rules for the Antelope Valley Air Quality Management District:

(1) Rule 462, Organic Liquid Loading;

(2) Rule 1110.2, Emissions from Stationary, Non-road & Portable Internal Combustion Engines;

(3) Rule 1151, Motor Vehicle and Mobile Equipment Coating Operations; and

(4) Rule 1171, Solvent Cleaning Operations. If the State fails to meet its commitment by November 9, 2018, the conditional approval is treated as a disapproval.

[FR Doc. 2017-21375 Filed 10-6-17; 8:45 am]

BILLING CODE 6560-50-P